DEPARTMENT OF THE TREASURY

31 CFR Part 103

RIN 1506-AA85

Financial Crimes Enforcement Network; Provision of Banking Services to Money Services Businesses

AGENCY: Financial Crimes Enforcement Network, Department of the Treasury.

ACTION: Advance notice of proposed rulemaking; extension of comment period.

SUMMARY: The Financial Crimes Enforcement Network (“FinCEN”) is extending the comment period for the referenced advance notice of proposed rulemaking, 71 FR 12308 (March 10, 2006), for an additional sixty (60) days. The original comment period would have expired on May 9, 2006. The new extended comment period will expire on July 10, 2006.

DATES: Comments must be submitted on or before July 10, 2006.

ADDRESSES: You may submit comments, identified by RIN 1506-AA85, by any of the following methods:

• Federal e-rulemaking portal: http://www.regulations.gov. Follow the instructions for submitting comments.

• E-mail: regcomments@fincen.treas.gov. Include RIN 1506-AA85 in the subject line of the message.

• Mail: FinCEN, P.O. Box 39, Vienna, VA 22183. Include RIN 1506-AA85 in the body of the text.

Instructions: It is preferable for comments to be submitted by electronic mail because paper mail in the Washington, DC area may be delayed. Please submit comments by one method only. All submissions received must include the agency name and the Regulatory Information Number (RIN) for this rulemaking. All comments received will be posted without change to http://www.fincen.gov, including any personal information provided. Comments may be inspected at FinCEN between 10 a.m. and 4 p.m. in the FinCEN reading room in Washington, DC. Persons wishing to inspect the comments submitted must request an appointment by telephoning (202) 354-6400 (not a toll-free number).

FOR FURTHER INFORMATION CONTACT: Regulatory Policy and Programs Division, FinCEN on (800) 949-2732 (toll-free).

SUPPLEMENTARY INFORMATION: FinCEN issued an advance notice of proposed rulemaking (71 FR 12308) on March 10, 2006 in order to solicit further information as part of our ongoing effort to address, in the context of the Bank Secrecy Act, the issue of access to banking services by money services businesses. We have received a number of comments to date, including a request to extend the deadline for comments in order to allow interested parties more time in which to comment on the specific issues raised in the advance notice.

In light of the fact that an extension of time will not impede any imminent rulemaking and will allow additional interested parties to respond to the issues raised in the advance notice, we have determined that it is appropriate to extend the comment period until July 10, 2006.

Dated: May 9, 2006.
Robert W. Werner,
Director, Financial Crimes Enforcement Network.

[FR Doc. E6-7327 Filed 5-12-06; 8:45 am]

BILLING CODE 4810-02-P